DEPARTMENT OF TRANSPORTATION

Federal Aviation Administration

Fourth Meeting Special Committee 235, Non-Rechargeable Lithium Battery and Batteries

AGENCY: Federal Aviation Administration (FAA), U.S. Department of Transportation (DOT).

ACTION: Fourth Meeting Special Committee 235, non-rechargeable lithium battery and batteries.

SUMMARY: The FAA is issuing this notice to advise the public of a meeting of Fourth Meeting Special Committee 235, Non-Rechargeable Lithium Battery and Batteries.

DATES: The meeting will be held August 16-17, 2016, 9:00 a.m. to 5:00 p.m. Tuesday, 9:00 a.m. to 4:00 p.m. Wednesday.

ADDRESSES: The meeting will be held at: RTCA, Inc., 1150 18th Street NW., Suite 450, Washington, DC 20036.

FOR FURTHER INFORMATION CONTACT: Karan Hofmann at khofmann@rtca.org or (202) 330-0680 or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Fourth Meeting Special Committee 235, Non-Rechargeable Lithium Battery and Batteries. The agenda will include the following:

Tuesday, August 16, 2016—8:30 a.m.-5:00 p.m.

1. Welcome and Administrative Remarks

2. Introductions

3. Agenda Review

4. Meeting #3 Summary Review and Approval

5. Action Item Review

6. Status Report of Working-Group Leaders

• WG-1—New DO-227A MOPS Template and Section 1

• WG-2—Cell and Battery Requirements

7. Review Draft DO-227A Comments

8. Member company input on Thermal Runaway Test

9. FAA Tech Center Testing Update

10. Review of program schedule

11. Action Item Review

12. Any other Business

13. Date and Place of Next Meeting

14. Adjourn

Wednesday, August 17, 2016—8:30 a.m.-4:00 p.m.

Continuation of Plenary or Working Group Sessions

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on July 15, 2016.
June Green,
Procurement Services Division, ANG-A1, NextGen, Procurement Services Division, Federal Aviation Administration.

[FR Doc. 2016-17309 Filed 7-20-16; 8:45 am]

BILLING CODE 4910-13-P